SMALL BUSINESS ADMINISTRATION

Reporting and Recordkeeping Requirements Under OMB Review

AGENCY: Small Business Administration.

ACTION: 30-Day notice.

SUMMARY: The Small Business Administration (SBA) is publishing this notice to comply with requirements of the Paperwork Reduction Act (PRA) requires agencies to submit proposed reporting and recordkeeping requirements to OMB for review and approval, and to publish a notice in the Federal Register notifying the public that the agency has made such a submission. This notice also allows an additional 30 days for public comments.

DATES: Submit comments on or before May 16, 2019.

ADDRESSES: Comments should refer to the information collection by name and/or OMB Control Number and should be sent to: Agency Clearance Officer, Curtis Rich, Small Business Administration, 409 3rd Street SW, 5th Floor, Washington, DC 20416; and SBA Desk Officer, Office of Information and Regulatory Affairs, Office of Management and Budget, New Executive Office Building, Washington, DC 20503.

FOR FURTHER INFORMATION CONTACT: Curtis Rich, Agency Clearance Officer, (202) 205-7030 curtis.rich@sba.gov

Copies: A copy of the Form OMB 83-1, supporting statement, and other documents submitted to OMB for review may be obtained from the Agency Clearance Officer.

SUPPLEMENTARY INFORMATION: The SBA's Women's Business Centers represent a national network of over 100 educational centers designed to assist women in starting and growing small businesses. WBCs operate with the mission to “level the playing field” for women entrepreneurs, who still face unique obstacles in the world of business. Through the management and technical assistance provided by the WBCs, entrepreneurs (especially women who are economically or socially disadvantaged) are offered comprehensive training and counseling on a variety of topics in many languages to help them start and grow their own businesses. The SBA plans to conduct a web-based survey to understand to what degree the Agency's WBC programs and services help entrepreneurs start, manage, and grow businesses. The survey will help determine customer satisfaction and the outcomes of the delivered business assistance services. Surveys will be completed by a sample of clients who received business assistance services at least 1 year ago. A minimum 1-year lag is desired to allow the business outcomes of the services to be observed. Because WBCs offer both training and counseling services, clients who received either service will be included.

Solicitation of Public Comments

Title: Women's Business Center Client Outcome Survey.

Description of Respondents: Women's Business Center Program Services.

Form Number: N/A.

Estimated Annual Responses: 2,087.

Estimated Annual Hour Burden: 770.48.

Curtis Rich,
Management Analyst.

[FR Doc. 2019-07528 Filed 4-15-19; 8:45 am]

BILLING CODE 8025-01-P